NUCLEAR REGULATORY COMMISSION

[Docket Nos. 50-361-CAL, 50-362-CAL; ASLBP No. 13-924-01-CAL-BD01]

Southern California Edison Company; Establishment of Atomic Safety and Licensing Board

Pursuant to delegation by the Commission, see 37 FR 28,710 (Dec. 29, 1972), and the Commission's regulations, see 10 CFR 2.104, 2.105, 2.300, 2.309, 2.313, 2.318, and 2.321, notice is hereby given that an Atomic Safety and Licensing Board (Board) is being established to preside over the following proceeding:

Southern California Edison Company

(San Onofre Nuclear Generating Station, Units 2 and 3)

This proceeding involves a March 27, 2012 NRC Confirmatory Action Letter (CAL) issued to Southern California Edison Company (SCE), and the NRC Commission's November 8, 2012 decision in CLI-12-20 referring to the Atomic Safety and Licensing Board Panel that portion of Friends of the Earth's June 18, 2012 intervention petition challenging the CAL. In particular, the Commission directs (CLI-12-20, slip op. at 5) that a duly constituted Board “consider whether: (1) the [CAL] issued to SCE constitutes a de facto license amendment that would be subject to a hearing opportunity under Section 189a [of the Atomic Energy Act]; and, if so, (2) whether the petition meets the standing and contention admissibility requirements of 10 CFR § 2.309.”

The Board is comprised of the following administrative judges:

E. Roy Hawkens, Chair, Atomic Safety and Licensing Board Panel, U.S. Nuclear Regulatory Commission, Washington, DC 20555-0001;

Dr. Anthony J. Baratta, Atomic Safety and Licensing Board Panel, U.S. Nuclear Regulatory Commission, Washington, DC 20555-0001l

Dr. Gary S. Arnold, Atomic Safety and Licensing Board Panel, U.S. Nuclear Regulatory Commission, Washington, DC 20555-0001.

All correspondence, documents, and other materials shall be filed in accordance with the NRC E-Filing rule (10 CFR 2.302), which the NRC promulgated in August 2007 (72 FR 49,139).

Issued at Rockville, Maryland, this 19th day of November 2012.
E. Roy Hawkens,
Chief Administrative Judge, Atomic Safety and Licensing Board Panel.

[FR Doc. 2012-28562 Filed 11-23-12; 8:45 am]

BILLING CODE 7590-01-P